DEPARTMENT OF ENERGY

Federal Energy Regulatory Commission

Combined Notice of Filings #1

Take notice that the Commission received the following electric corporate filings:

Docket Numbers: EC25-43-000.

Applicants: CONSTELLATION ENERGY CORPORATION, Constellation Energy Generation, LLC, Calpine Corporation.

Description: Joint Application for Authorization Under Section 203 of the Federal Power Act of Constellation Energy Corporation, et al.

Filed Date: 1/24/25.

Accession Number: 20250124-5188.

Comment Date: 5 p.m. ET 3/25/25.

Take notice that the Commission received the following electric rate filings:

Docket Numbers: ER12-161-032; ER24-2467-001.

Applicants: Spanish Peaks Solar LLC, Bishop Hill Energy LLC.

Description: Notice of Non-Material Change in Status of Bishop Hill Energy LLC, et al.

Filed Date: 1/27/25.

Accession Number: 20250127-5102.

Comment Date: 5 p.m. ET 2/18/25.

Docket Numbers: ER19-158-017; ER10-2421-015; ER10-2613-011; ER10-2616-029; ER11-2457-015; ER10-2586-004; ER11-4400-026; ER12-75-018; ER12-1769-017; ER12-2251-016; ER12-2253-016; ER14-883-021; ER14-924-010; ER14-1569-022; ER14-2245-017; ER15-1596-022; ER15-1599-022; ER19-102-015; ER19-2803-014; ER11-2449-006; ER19-2807-014; ER19-2809-014; ER19-2810-014; ER19-2811-014; ER24-3047-001; ER24-3048-001; ER25-202-001.

Applicants: Vision Trading Company LLC, Baldwin Solar BESS LLC, Coffeen Solar BESS LLC, Viridian Energy, LLC, Viridian Energy PA, LLC, Viridian Energy NY, LLC, Energy Rewards, LLC, Connecticut Gas & Electric, Inc., Cincinnati Bell Energy LLC, Luminant Energy Company LLC, Dynegy Energy Services (East), LLC, Dynegy Commercial Asset Management, LLC, TriEagle Energy, LP, Dynegy Energy Services, LLC, Illinois Power Resources Generating, LLC, Illinois Power Marketing Company, Public Power & Utility of Maryland, LLC, Public Power & Utility of NY, Inc, Viridian Energy NG, LLC, Public Power & Utility, Inc., Dynegy Power Marketing, LLC, Dynegy Midwest Generation, Inc., Massachusetts Gas & Electric, Inc., Dynegy Marketing and Trade, LLC, Sithe/Independence Power Partners, L.P., Energy Services Providers, Inc., Ambit Northeast, LLC.

Description: Notice of Non-Material Change in Status of Ambit Northeast, LLC, et al.

Filed Date: 1/23/25.

Accession Number: 20250123-5163.

Comment Date: 5 p.m. ET 2/13/25.

Docket Numbers: ER20-479-004; ER20-481-005; ER20-482-004; ER20-484-004; ER20-1650-005; ER20-2098-003; ER22-1523-003; ER22-1549-006; ER23-912-002.

Applicants: Sun Streams Expansion, LLC, Sun Streams PVS, LLC, Sun Streams 2, LLC, Titan Solar 1, LLC, Little Bear Master Tenant, LLC, Little Bear Solar 5, LLC, Little Bear Solar 4, LLC, Little Bear Solar 3, LLC, Little Bear Solar 1, LLC.

Description: Notice of Non-Material Change in Status of Little Bear Solar 1, LLC, et al.

Filed Date: 1/22/25.

Accession Number: 20250122-5247.

Comment Date: 5 p.m. ET 2/12/25.

Docket Numbers: ER21-206-004.

Applicants: Potomac Electric Power Company, PJM Interconnection, L.L.C.

Description: Compliance filing: Potomac Electric Power Company submits tariff filing per 35: Pepco Clean-Up Filing to Adopt Certain Apprved Updates into Att H-9A to be effective5/1/2020.

Filed Date: 1/24/25.

Accession Number: 20250124-5131.

Comment Date: 5 p.m. ET 2/14/25.

Docket Numbers: ER24-2970-002.

Applicants: ISO New England Inc., Central Maine Power Company.

Description: Tariff Amendment: ISO New England Inc. submits tariff filing per 35.17(b): Docket No. ER24-2970-000; Response to Request for Additional Information to be effective 8/8/2024.

Filed Date: 1/27/25.

Accession Number: 20250127-5181.

Comment Date: 5 p.m. ET 2/18/25.

Docket Numbers: ER25-44-001.

Applicants: Portland General Electric Company.

Description: Tariff Amendment: Fourth Amended and Restated Colstrip Transmission Agreement to be effective 10/5/2024.

Filed Date: 1/27/25.

Accession Number: 20250127-5134.

Comment Date: 5 p.m. ET 2/18/25.

Docket Numbers: ER25-1043-001.

Applicants: Tri-State Generation and Transmission Association, Inc.

Description: Tariff Amendment: Errata to Correct eTariff Record and Transmittal in Initial Filing of SA 929 to be effective 1/16/2025.

Filed Date: 1/27/25.

Accession Number: 20250127-5176.

Comment Date: 5 p.m. ET 2/18/25.

Docket Numbers: ER25-1047-000.

Applicants: Southwest Power Pool, Inc.

Description: § 205(d) Rate Filing: 1889R14 Evergy Kansas Central, Inc. NITSA NOA to be effective 1/1/2025.

Filed Date: 1/27/25.

Accession Number: 20250127-5032.

Comment Date: 5 p.m. ET 2/18/25.

Docket Numbers: ER25-1048-000.

Applicants: Southwest Power Pool, Inc.

Description: § 205(d) Rate Filing: 2562R15 Kansas Municipal Energy Agency NITSA and NOA to be effective 1/1/2025.

Filed Date: 1/27/25.

Accession Number: 20250127-5037.

Comment Date: 5 p.m. ET 2/18/25.

Docket Numbers: ER25-1049-000.

Applicants: Union Electric Company.

Description: § 205(d) Rate Filing: 2025-01-27_SA 4436 Ameren Missouri (UE)-City of Kirkwood CA to be effective 3/29/2025.

Filed Date: 1/27/25.

Accession Number: 20250127-5040.

Comment Date: 5 p.m. ET 2/18/25.

Docket Numbers: ER25-1050-000.

Applicants: PJM Interconnection, L.L.C.

Description: § 205(d) Rate Filing: Original WMPA Service Agreement No. 7520; Project Identifier No. AF1-106 to be effective 12/31/9998.

Filed Date: 1/27/25.

Accession Number: 20250127-5043.

Comment Date: 5 p.m. ET 2/18/25.

Docket Numbers: ER25-1051-000.

Applicants: PJM Interconnection, L.L.C.

Description: § 205(d) Rate Filing: Original CSA, SA No. 7469; Project Identifier No. AE2-234 to be effective1/3/2025.

Filed Date: 1/27/25.

Accession Number: 20250127-5045.

Comment Date: 5 p.m. ET 2/18/25.

Docket Numbers: ER25-1052-000.

Applicants: Southwest Power Pool, Inc.

Description: § 205(d) Rate Filing: 2415R21 Kansas Municipal Energy Agency NITSA and NOA) to be effective 1/1/2025.

Filed Date: 1/27/25.

Accession Number: 20250127-5054.

Comment Date: 5 p.m. ET 2/18/25.

Docket Numbers: ER25-1053-000.

Applicants: NorthWestern Corporation.

Description: § 205(d) Rate Filing: Order 898—Montana OATT Formula Rate to be effective 1/1/2025.

Filed Date: 1/27/25.

Accession Number: 20250127-5058.

Comment Date: 5 p.m. ET 2/18/25.

Docket Numbers: ER25-1054-000.

Applicants: New York Independent System Operator, Inc., Niagara Mohawk Power Corporation.

Description: § 205(d) Rate Filing: New York Independent System Operator, Inc. submits tariff filing per 35.13(a)(2)(iii: NYISO-Nat Grid Joint 205: LGIA South Ripley Solar and Battery Storage SA2877 to be effective 1/10/2025.

Filed Date: 1/27/25.

Accession Number: 20250127-5059.

Comment Date: 5 p.m. ET 2/18/25.

Docket Numbers: ER25-1055-000.

Applicants: PacifiCorp.

Description: § 205(d) Rate Filing: UAMPS Construction Agreement IFP Peaking Plant (RS No. 794) to be effective 3/29/2025.

Filed Date: 1/27/25.

Accession Number: 20250127-5073.

Comment Date: 5 p.m. ET 2/18/25.

Docket Numbers: ER25-1056-000.

Applicants: Hornshadow Solar, LLC.

Description: § 205(d) Rate Filing: Application for Market-Based Rate Authority to be effective 3/2/2025.

Filed Date: 1/27/25.

Accession Number: 20250127-5090.

Comment Date: 5 p.m. ET 2/18/25.

Docket Numbers: ER25-1057-000.

Applicants: Hornshadow Solar 2, LLC.

Description: § 205(d) Rate Filing: Application for Market-Based Rate Authority to be effective 3/2/2025.

Filed Date: 1/27/25.

Accession Number: 20250127-5092.

Comment Date: 5 p.m. ET 2/18/25.

Docket Numbers: ER25-1058-000.

Applicants: MATL LLP.

Description: Compliance filing: Order No. 904 Compliance Filing to be effective 1/27/2025.

Filed Date: 1/27/25.

Accession Number: 20250127-5099.

Comment Date: 5 p.m. ET 2/18/25.

Docket Numbers: ER25-1059-000.

Applicants: PJM Interconnection, L.L.C.

Description: § 205(d) Rate Filing: Amendment to ISA, Service Agreement No. 6975; Queue No. AE2-020/021/022 to be effective 3/29/2025.

Filed Date: 1/27/25.

Accession Number: 20250127-5148.

Comment Date: 5 p.m. ET 2/18/25.

Docket Numbers: ER25-1060-000.

Applicants: NorthWestern Corporation.

Description: § 205(d) Rate Filing: SA 1011—Conditional PTP Trans. Service with Guzman Energy to be effective3/1/2025.

Filed Date: 1/27/25.

Accession Number: 20250127-5152.

Comment Date: 5 p.m. ET 2/18/25.

Docket Numbers: ER25-1061-000.

Applicants: RE Papago LLC.

Description: Initial rate filing: Shared Facilities and Co-Tenancy Agreements to be effective 12/3/2024.

Filed Date: 1/27/25.

Accession Number: 20250127-5163.

Comment Date: 5 p.m. ET 2/18/25.

Take notice that the Commission received the following electric securities filings:

Docket Numbers: ES25-30-000.

Applicants: Michigan Electric Transmission Company, LLC.

Description: Application Under Section 204 of the Federal Power Act for Authorization to Issue Securities of Michigan Electric Transmission Company, LLC.

Filed Date: 1/22/25.

Accession Number: 20250122-5245.

Comment Date: 5 p.m. ET 2/12/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 27, 2025.
Carlos D. Clay,
Deputy Secretary.

[FR Doc. 2025-02058 Filed 1-30-25; 8:45 am]

BILLING CODE 6717-01-P